Proclamation 10611 of August 31, 2023

National Ovarian Cancer Awareness Month, 2023

By the President of the United States of America

A Proclamation

This year, nearly 20,000 women in the United States will be diagnosed with ovarian cancer—the deadliest of all female reproductive system cancers. Like so many American families, the pain of cancer and the devastation left in its wake are personal for me and my family. During National Ovarian Cancer Awareness Month, we stand in solidarity with the brave women fighting this terrible disease. We honor the mothers, sisters, daughters, wives, and friends we have tragically lost. And we renew our commitment to ending cancer as we know it.

Despite remarkable scientific breakthroughs, no reliable method for asymptomatic screening and detection exists, often delaying discovery until the cancer has progressed to far deadlier, advanced stages. Even for patients who receive a timely diagnosis, the flood of medical information can be overwhelming, and the cost of life-saving care can be financially crippling. Thousands of Americans pay more than $10,000 per year for ovarian cancer drugs.

Our Nation must do more to change that. Last year, the First Lady and I reignited the Cancer Moonshot, setting ambitious goals to cut the overall cancer death rate by at least half in the next 25 years, turning more cancers from death sentences into treatable diseases and working to improve the experience for patients and their families. As a first step, I worked with the Congress to establish the Advanced Research Projects Agency for Health, securing $2.5 billion in bipartisan funding to drive scientific breakthroughs in preventing, detecting, and treating cancer and other deadly diseases and pioneering partnerships to get those breakthroughs out to clinics and patients.

My Administration is also working to get patients and their families the breathing room they deserve—since taking office, we have lowered prescription drug costs and made lifesaving health care more affordable for millions of American families. We have strengthened Medicaid and the Affordable Care Act, expanding health care coverage to millions of Americans and helping 13 million people save $800 per year on health insurance premiums. The Inflation Reduction Act will also cap out-of-pocket drug costs for people on Medicare at $2,000 per year, even for expensive cancer drugs.

We also know that early detection greatly improves chances of survival for ovarian cancer. All women should discuss risk factors with their doctors and remain vigilant against symptoms. Experts recommend that patients with a personal or family history of breast or ovarian cancer—or whose ancestry is associated with harmful gene variants—have a discussion of risk factors with their doctors to see if genetic counseling and testing may be appropriate.

Every day, people across the country share their stories of cancer with me—stories of pain and perseverance, stories of loss and love, and stories of heartache and hope. In observance of National Ovarian Cancer Month, let us pay tribute to all the lives we can save and to all the lives we have lost. Let us support the families and medical community working tirelessly to provide them with treatment and care. And let us recommit to ending cancer as we know it, once and for all.

NOW, THEREFORE, I, JOSEPH R. BIDEN JR., President of the United States of America, by virtue of the authority vested in me by the Constitution and the laws of the United States, do hereby proclaim September 2023 as National Ovarian Cancer Awareness Month. I call upon the people of the United States to speak with their doctors and health care providers to learn more about ovarian cancer. I encourage citizens, government agencies, private businesses, nonprofit organizations, the media, and other interested groups to increase awareness of what Americans can do to detect and treat ovarian cancer.

IN WITNESS WHEREOF, I have hereunto set my hand this thirty-first day of August, in the year of our Lord two thousand twenty-three, and of the Independence of the United States of America the two hundred and forty-eighth.

[FR Doc. 2023-19325

Filed 9-5-23; 8:45 am]

Billing code 3395-F3-P